DEPARTMENT OF TRANSPORTATION

Office of the Secretary

[Docket OST-2009-0249]

Application of Gulf Coast Airways, Inc. for Commuter Air Carrier Authority

AGENCY: Department of Transportation.

ACTION: Notice of Order to Show Cause (Order 2010-8-4), Docket OST-2009-0249.

SUMMARY: The Department of Transportation is directing all interested persons to show cause why it should not issue an order finding Gulf Coast Airways, Inc., fit, willing, and able, and awarding it commuter air carrier authority to conduct scheduled commuter service.

DATES: Persons wishing to file objections should do so no later than August 19, 2010.

ADDRESSES: Objections and answers to objections should be filed in Docket DOT-OST-2009-0249 and addressed to Docket Operations, (M-30, Room W12-140), U.S. Department of Transportation, 1200 New Jersey Avenue, SE., Washington, DC 20590, and should be served upon the parties listed in Attachment A to the order.

FOR FURTHER INFORMATION CONTACT: Catherine O'Toole, Air Carrier Fitness Division (X-56, Room W86-489), U.S. Department of Transportation, 1200 New Jersey Avenue, SE., Washington, DC 20590, (202) 366-9721.

Dated: August 5, 2010.
Susan L. Kurland,
Assistant Secretary for Aviation and International Affairs.

[FR Doc. 2010-19758 Filed 8-10-10; 8:45 am]

BILLING CODE P